DEPARTMENT OF THE INTERIOR

National Park Service

[NPS-WASO-NAGPRA-NPS0039962; PPWOCRADN0-PCU00RP14.R50000]

Notice of Intended Disposition: U.S. Department of the Interior, Fish and Wildlife Service, Stillwater National Wildlife Refuge Complex, Fallon, NV

AGENCY: National Park Service, Interior.

ACTION: Notice.

SUMMARY: In accordance with the Native American Graves Protection and Repatriation Act (NAGPRA), the U.S. Department of the Interior, Fish and Wildlife Service, Stillwater National Wildlife Refuge Complex intends to carry out the disposition of human remains removed from Federal or Tribal lands to the lineal descendants, Indian Tribe, or Native Hawaiian organization with priority for disposition in this notice.

DATES: Disposition of the human remains in this notice may occur on or after May 19, 2025. If no claim for disposition is received by April 20, 2026 the human remains in this notice will become unclaimed human remains.

ADDRESSES: Carl Lunderstadt, Refuge Manager, U.S. Fish and Wildlife Service, Stillwater National Wildlife Refuge Complex, 3175 Freeman Lane, Fallon, NV 89406, telephone (775) 423-5128, email carl_lunderstadt@fws.gov.

SUPPLEMENTARY INFORMATION: This notice is published as part of the National Park Service's administrative responsibilities under NAGPRA. The determinations in this notice are the sole responsibility of the Stillwater National Wildlife Refuge Complex, and additional information on the determinations in this notice, including the results of consultation, can be found in its inventory or related records. The National Park Service is not responsible for the determinations in this notice.

Abstract of Information Available

Based on the information available, human remains representing, at least, one individual has been reasonably identified. The individual was discovered on 28 July 2017 on Stillwater National Wildlife Refuge in Churchill County, Nevada. The Churchill County Sherriff's Office was contacted, and investigators recovered several bones associated with a burial determined to be of Native American ancestry. The location where the individual was located in proximity to site 26CH1046 which was recorded in 1985 and has other known burials. The individual is believed to be from this site.

Determinations

The Stillwater National Wildlife Refuge Complex has determined that:

• The human remains described in this notice represent the physical remains of one individual of Native American ancestry.

• The Paiute-Shoshone Tribe of the Fallon Reservation and Colony, Nevada, have priority for disposition of the human remains described in this notice.

Claims for Disposition

Written claims for disposition of the human remains in this notice must be sent to the authorized representative identified in this notice under ADDRESSES. If no claim for disposition is received by April 20, 2026 the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains described in this notice may occur on or after May 19, 2025. If competing claims for disposition are received, the Stillwater National Wildlife Refuge Complex must determine the most appropriate claimant prior to disposition. Requests for joint disposition of the human remains are considered a single request and not competing requests. The Stillwater National Wildlife Refuge Complex is responsible for sending a copy of this notice to the Indian Tribes and Native Hawaiian organizations identified in this notice.

Authority: Native American Graves Protection and Repatriation Act, 25 U.S.C. 3002, and the implementing regulations, 43 CFR 10.7.

Dated: April 8, 2025.
Melanie O'Brien,
Manager, National NAGPRA Program.

[FR Doc. 2025-06650 Filed 4-17-25; 8:45 am]

BILLING CODE 4312-52-P